DEPARTMENT OF LABOR

Employment and Training Administration

[TA-W-83,129; TA-W-83,129A]

International Paper Company, Courtland Alabama Paper Mill, Printing & Communications Papers Division, a Subsidiary of International Paper Company, Including On-Site Leased Workers From Manpower, Western Express, Liberty Healthcare, and K2 Mansfield, Courtland, Alabama; International Paper Company Customer Service Center, Printing & Communication Papers Division, a Subsidiary of International Paper Company Suffolk, Virginia; Amended Certification Regarding Eligibility To Apply for Worker Adjustment Assistance

In accordance with Section 223 of the Trade Act of 1974, as amended (“Act”), 19 U.S.C. 2273, the Department of Labor issued a Certification of Eligibility to Apply for Worker Adjustment Assistance on February 6, 2014, applicable to workers of International Paper Company, Cortland Alabama Paper Mill, Printing & Communications Paper Division, a subsidiary of International Paper Company, including on-site leased workers from Manpower, Western Express, Liberty Healthcare, and K2 Mansfield, Cortland, Alabama (TA-W-83,129). The Department's notice of determination was published in the Federal Register on February 24, 2014 (79 FR 10189).

Following the filing of a petition on behalf of workers of International Paper Company, Customer Service Center, Printing & Communication Paper Division, Suffolk, Virginia (TA-W-85,745), the Department reviewed the certification for workers of the subject firm. The investigation revealed that workers from at the Customer Service Center, Printing & Communication Paper Division, Suffolk, Virginia, were in support of the production facility in Cortland, Alabama.

The amended notice applicable to TA-W-83,129 is hereby issued as follows:

“All workers of International Paper Company, Cortland Alabama Paper Mill, Printing & Communications Paper Division, a subsidiary of International Paper Company, including on-site leased workers from Manpower, Western Express, Liberty Healthcare, and K2 Mansfield, Cortland, Alabama (TA-W-83,129) and International Paper Company, Customer Service Center, Printing & Communication Paper Division, a subsidiary of International Paper Company, Suffolk, Virginia (TA-W-83,129A) who became totally or partially separated from employment on or after October 10, 2012 through February 6, 2016, and all workers in the group threatened with total or partial separation from employment on February 6, 2014 through February 6, 2016, are eligible to apply for adjustment assistance under Chapter 2 of Title II of the Trade Act of 1974, as amended.”

Signed in Washington, DC, this 31st day of March, 2015.
Del Min Amy Chen,
Certifying Officer, Office of Trade Adjustment Assistance.

[FR Doc. 2015-09653 Filed 4-24-15; 8:45 am]

BILLING CODE 4510-FN-P